FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
018861N | Central American Shipping Agency Inc., 55 West Main Street, Freehold, NJ 07728 | July 14, 2005.
012702N | S.E.S. International Express, Inc., 10105 Doty Avenue, Unit A, Inglewood, CA 90303 | July 20, 2005.
004560F | TUR Enterprises, Inc., dba Seven Winds Shipping, 8160 NW 71 Street, Miami, FL 33166 | May 25, 2005.

Sandra L. Kusumoto,
Director, Bureau of Certification and Licensing.

[FR Doc. 05-18268 Filed 9-13-05; 8:45 am]

BILLING CODE 6730-01-P